DEPARTMENT OF INTERIOR

Fish and Wildlife Service

50 CFR Part 17

DEPARTMENT OF COMMERCE

National Oceanic and Atmospheric Administration

50 CFR Parts 223 and 224

RIN 0648-AY49

Endangered and Threatened Species; Proposed Listing of Nine Distinct Population Segments of Loggerhead Sea Turtles as Endangered or Threatened; Extension of Comment Period

AGENCY: National Marine Fisheries Service (NMFS), National Oceanic and Atmospheric Administration (NOAA), Commerce; United States Fish and Wildlife Service (USFWS), Interior.

ACTION: Extension of public comment period; Notice of public hearing.

SUMMARY: NMFS and USFWS hereby extend the comment period on the proposed listing of nine distinct population segments of loggerhead sea turtles as endangered or threatened, which was published on March 16, 2010, until September 13, 2010. In addition, NMFS and USFWS will hold a public hearing in Berlin, MD, on June 16, 2010 to answer questions and receive public comments.

DATES: Comments and information regarding this proposed rule must be received by September 13, 2010. See SUPPLEMENTARY INFORMATION for the specific date, time and location of the public hearing.

ADDRESSES: You may submit comments, identified by RIN 0648-AY49, by any of the following methods:

• Electronic Submissions: Submit all electronic public comments via the Federal eRulemaking Portal: http://www.regulations.gov.

• Mail: NMFS National Sea Turtle Coordinator, Attn: Loggerhead Proposed Listing Rule, Office of Protected Resources, National Marine Fisheries Service, 1315 East-West Highway, Room 13657, Silver Spring, MD 20910 or USFWS National Sea Turtle Coordinator, U.S. Fish and Wildlife Service, 7915 Baymeadows Way, Suite 200, Jacksonville, FL 32256.

• Fax: To the attention of NMFS National Sea Turtle Coordinator at 301-713-0376 or USFWS National Sea Turtle Coordinator at 904-731-3045.

Instructions: All comments received are a part of the public record and will generally be posted to http://www.regulations.gov without change. All Personal Identifying Information (for example, name, address, etc.) voluntarily submitted by the commenter may be publicly accessible. Do not submit Confidential Business Information or otherwise sensitive or protected information.

NMFS and USFWS will accept anonymous comments (enter N/A in the required fields, if you wish to remain anonymous). Attachments to electronic comments will be accepted in Microsoft Word, Excel, WordPerfect, or Adobe PDF file formats only. The proposed rule is available electronically at http://www.nmfs.noaa.gov/pr.

FOR FURTHER INFORMATION CONTACT: Barbara Schroeder, NMFS (ph. 301-713-1401, fax 301-713-0376, e-mail barbara.schroeder@noaa.gov), Sandy MacPherson, USFWS (ph. 904-731-3336, e-mail sandy_macpherson@fws.gov), Marta Nammack, NMFS (ph. 301-713-1401, fax 301-713-0376, e-mail marta_nammack@noaa.gov), or Emily Bizwell, USFWS (ph. 404-679-7149, fax 404-679-7081, e-mail emily_bizwell@fws.gov). Persons who use a Telecommunications device for the deaf (TDD) may call the Federal Information Relay Service (FIRS) at 1-800-877-8339, 24 hours a day, 7 days a week.

SUPPLEMENTARY INFORMATION: On March 16, 2010, NMFS and USFWS issued a proposed rule to list nine distinct population segments (DPSs) for the loggerhead sea turtle (Caretta caretta) that qualify as “species” for listing as endangered or threatened under the Endangered Species Act (ESA), and the Services proposed to list two as threatened and seven as endangered.

NMFS and USFWS subsequently received several requests to extend the public comment period for an additional 60-120 days. NMFS and USFWS have determined that an extension of 90 days, until September 13, 2010, making the full comment period 180 days, will allow adequate time for the public to thoroughly review and thoughtfully comment on the proposed rule.

NMFS and USFWS received a request for a public hearing to be held in Maryland. In response to that request, the date, time and location of the public hearing is as follows:

Wednesday, June 16, 2010, 6 p.m. to 9 p.m., Berlin, MD: Worcester County Library Ocean Pines Branch, 11107 Cathell Road, Berlin, MD 21811; Meeting Room.

This hearing will be physically accessible to people with disabilities. Requests for sign language interpretation or other auxiliary aids should be directed to Sara McNulty, NMFS, Office of Protected Resources, 301-713-2322, at least five business days prior to the hearing date.

Authority: 16 U.S.C. 1531 et seq.

Dated: May 27, 2010.
James H. Lecky,
Director, Office of Protected Resources, National Marine Fisheries Service.

Gary Frazer,
Assistant Director for Endangered Species, U.S. Fish and Wildlife Service.

[FR Doc. 2010-13190 Filed 5-27-10; 4:15 pm]

BILLING CODE 3510-22-S